Title 3—

The President

Executive Order 13801 of June 15, 2017

Expanding Apprenticeships in America

By the authority vested in me as President by the Constitution and the laws of the United States of America, and to promote affordable education and rewarding jobs for American workers, it is hereby ordered as follows:

Section 1. Purpose. America's education systems and workforce development programs are in need of reform. In today's rapidly changing economy, it is more important than ever to prepare workers to fill both existing and newly created jobs and to prepare workers for the jobs of the future. Higher education, however, is becoming increasingly unaffordable. Furthermore, many colleges and universities fail to help students graduate with the skills necessary to secure high-paying jobs in today's workforce. Far too many individuals today find themselves with crushing student debt and no direct connection to jobs.

Against this background, federally funded education and workforce development programs are not effectively serving American workers. Despite the billions of taxpayer dollars invested in these programs each year, many Americans are struggling to find full-time work. These Federal programs must do a better job matching unemployed American workers with open jobs, including the 350,000 manufacturing jobs currently available.

Expanding apprenticeships and reforming ineffective education and workforce development programs will help address these issues, enabling more Americans to obtain relevant skills and high-paying jobs. Apprenticeships provide paid, relevant workplace experiences and opportunities to develop skills that employers value. Additionally, they provide affordable paths to good jobs and, ultimately, careers.

Finally, federally funded education and workforce development programs that do not work must be improved or eliminated so that taxpayer dollars can be channeled to more effective uses.

Sec. 2. Policy. It shall be the policy of the Federal Government to provide more affordable pathways to secure, high-paying jobs by promoting apprenticeships and effective workforce development programs, while easing the regulatory burden on such programs and reducing or eliminating taxpayer support for ineffective workforce development programs.

Sec. 3. Definitions. For purposes of this order:

(a) the term “apprenticeship” means an arrangement that includes a paid-work component and an educational or instructional component, wherein an individual obtains workplace-relevant knowledge and skills; and

(b) the term “job training programs” means Federal programs designed to promote skills development or workplace readiness and increase the earnings or employability of workers, but does not include Federal student aid or student loan programs.

Sec. 4. Establishing Industry-Recognized Apprenticeships. (a) The Secretary of Labor (Secretary), in consultation with the Secretaries of Education and Commerce, shall consider proposing regulations, consistent with applicable law, including 29 U.S.C. 50, that promote the development of apprenticeship programs by third parties. These third parties may include trade and industry groups, companies, non-profit organizations, unions, and joint labor-management organizations. To the extent permitted by law and supported by sound policy, any such proposed regulations shall reflect an assessment of whether to:

(i) determine how qualified third parties may provide recognition to high-quality apprenticeship programs (industry-recognized apprenticeship programs);

(ii) establish guidelines or requirements that qualified third parties should or must follow to ensure that apprenticeship programs they recognize meet quality standards;

(iii) provide that any industry-recognized apprenticeship program may be considered for expedited and streamlined registration under the registered apprenticeship program the Department of Labor administers;

(iv) retain the existing processes for registering apprenticeship programs for employers who continue using this system; and

(v) establish review processes, consistent with applicable law, for considering whether to:

(A) deny the expedited and streamlined registration under the Department of Labor's registered apprenticeship program, referred to in subsection (a)(iii) of this section, in any sector in which Department of Labor registered apprenticeship programs are already effective and substantially widespread; and

(B) terminate the registration of an industry-recognized apprenticeship program recognized by a qualified third party, as appropriate.

(b) The Secretary shall consider and evaluate public comments on any regulations proposed under subsection (a) of this section before issuing any final regulations.

Sec. 5. Funding to Promote Apprenticeships. Subject to available appropriations and consistent with applicable law, including 29 U.S.C. 3224a, the Secretary shall use available funding to promote apprenticeships, focusing in particular on expanding access to and participation in apprenticeships among students at accredited secondary and post-secondary educational institutions, including community colleges; expanding the number of apprenticeships in sectors that do not currently have sufficient apprenticeship opportunities; and expanding youth participation in apprenticeships.

Sec. 6. Expanding Access to Apprenticeships. The Secretaries of Defense, Labor, and Education, and the Attorney General, shall, in consultation with each other and consistent with applicable law, promote apprenticeships and pre-apprenticeships for America's high school students and Job Corps participants, for persons currently or formerly incarcerated, for persons not currently attending high school or an accredited post-secondary educational institution, and for members of America's armed services and veterans. The Secretaries of Commerce and Labor shall promote apprenticeships to business leaders across critical industry sectors, including manufacturing, infrastructure, cybersecurity, and health care.

Sec. 7. Promoting Apprenticeship Programs at Colleges and Universities. The Secretary of Education shall, consistent with applicable law, support the efforts of community colleges and 2-year and 4-year institutions of higher education to incorporate apprenticeship programs into their courses of study.

Sec. 8. Establishment of the Task Force on Apprenticeship Expansion. (a) The Secretary shall establish in the Department of Labor a Task Force on Apprenticeship Expansion.

(b) The mission of the Task Force shall be to identify strategies and proposals to promote apprenticeships, especially in sectors where apprenticeship programs are insufficient. The Task Force shall submit to the President a report on these strategies and proposals, including:

(i) Federal initiatives to promote apprenticeships;

(ii) administrative and legislative reforms that would facilitate the formation and success of apprenticeship programs;

(iii) the most effective strategies for creating industry-recognized apprenticeships; and

(iv) the most effective strategies for amplifying and encouraging private-sector initiatives to promote apprenticeships.

(c) The Department of Labor shall provide administrative support and funding for the Task Force, to the extent permitted by law and subject to availability of appropriations.

(d) The Secretary shall serve as Chair of the Task Force. The Secretaries of Education and Commerce shall serve as Vice-Chairs of the Task Force. The Secretary shall appoint the other members of the Task Force, which shall consist of no more than twenty individuals who work for or represent the perspectives of American companies, trade or industry groups, educational institutions, and labor unions, and such other persons as the Secretary may from time to time designate.

(e) Insofar as the Federal Advisory Committee Act, as amended (5 U.S.C. App.), may apply to the Task Force, any functions of the President under that Act, except for those of reporting to the Congress, shall be performed by the Chair, in accordance with guidelines issued by the Administrator of General Services.

(f) Members of the Task Force shall serve without additional compensation for their work on the Task Force, but shall be allowed travel expenses, including per diem in lieu of subsistence, to the extent permitted by law for persons serving intermittently in the Government service (5 U.S.C. 5701-5707), consistent with the availability of funds.

(g) A member of the Task Force may designate a senior member of his or her organization to attend any Task Force meeting.

(h) The Task Force shall terminate 30 days after it submits its report to the President.

Sec. 9. Excellence in Apprenticeships. Not later than 2 years after the date of this order, the Secretary shall, consistent with applicable law, and in consultation with the Secretaries of Education and Commerce, establish an Excellence in Apprenticeship Program to solicit voluntary information for purposes of recognizing, by means of a commendation, efforts by employers, trade or industry associations, unions, or joint labor-management organizations to implement apprenticeship programs.

Sec. 10. Improving the Effectiveness of Workforce Development Programs. (a) Concurrent with its budget submission to the Director of the Office of Management and Budget (OMB), the head of each agency shall submit a list of programs, if any, administered by their agency that are designed to promote skills development and workplace readiness. For such programs, agencies shall provide information on:

(i) evaluations of any relevant data pertaining to their effectiveness (including their employment outcomes);

(ii) recommendations for administrative and legislative reforms that would improve their outcomes and effectiveness for American workers and employers; and

(iii) recommendations to eliminate those programs that are ineffective, redundant, or unnecessary.

(b) The Director of OMB shall consider the information provided by agencies in subsection (a) of this section in developing the President's Fiscal Year 2019 Budget.

(c) The head of each agency administering one or more job training programs shall order, subject to available appropriations and consistent with applicable law, an empirically rigorous evaluation of the effectiveness of such programs, unless such an analysis has been recently conducted. When feasible, these evaluations shall be conducted by third-party evaluators using the most rigorous methods appropriate and feasible for the program, with preference given to multi-site randomized controlled trials.

(d) The Director of OMB shall provide guidance to agencies on how to fulfill their obligations under this section.

Sec. 11. General Provisions. (a) Nothing in this order shall be construed to impair or otherwise affect:

(i) the authority granted by law to an executive department or agency, or the head thereof; or

(ii) the functions of the Director of OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 15, 2017.

[FR Doc. 2017-13012

Filed 6-19-17; 11:15 am]

Billing code 3295-F7-P